DEPARTMENT OF STATE

Bureau of Administration

[Public Notice 4385]

Notice of Availability of Alternative Fueled Vehicle (AFV) Report for Fiscal Year 2002

AGENCY: Department of State.

ACTION: Notice.

SUMMARY: The U.S. Department of State, Bureau of Administration, is issuing this notice in order to comply with the Energy Policy Act of 1992 and 42 U.S.C. 13218(b).

The purpose of this notice is to announce the public availability of the Department of State's Fiscal Year 2002 report at the following Web site: http://www.state.gov/m/a/c8503.htm.

FOR FURTHER INFORMATION CONTACT: Questions regarding reports on the AFV report web site should be addressed to the Domestic Fleet Management and Operations Division (A/OPR/GSM/FMO) [Attn: Barry Shpil], 2201 C Street NW. (Room B258), Washington, DC 20520, phone 202-647-3628.

Dated: June 16, 2003.
Vincent J. Chaverini,
Deputy Assistant Secretary, Office of Operations, Department of State.

[FR Doc. 03-15782 Filed 6-20-03; 8:45 am]

BILLING CODE 4710-24-P